DEPARTMENT OF DEFENSE

Office of the Secretary

Reserve Forces Policy Board (RFPB); Notice of Federal Advisory Committee Meeting

AGENCY: Office of the Secretary of Defense, Reserve Forces Policy Board, DoD.

ACTION: Notice of Federal Advisory Committee meeting.

SUMMARY: Under the provisions of the Federal Advisory Committee Act of 1972 (FACA) (5 U.S.C., Appendix, as amended), the Government in the Sunshine Act of 1976 (5 U.S.C. 552b, as amended), and 41 CFR 102-3.150, the Department of Defense announces the following Federal advisory committee meeting of the Reserve Forces Policy Board (RFPB) will take place.

DATES: Thursday, September 5, 2013, from 8:15 a.m. to 4:00 p.m.

ADDRESSES: The address is the Army Navy Country Club, 1700 Army Navy Drive, Arlington, VA 22202.

FOR FURTHER INFORMATION CONTACT: CAPT Steven Knight, Designated Federal Officer, (703) 681-0608 (Voice), (703) 681-0002 (Facsimile), Email—steven.p.knight.mil@mail.mil. Mailing address is Reserve Forces Policy Board, 5113 Leesburg Pike, Suite 601, Falls Church, VA 22041. Web site: http://ra.defense.gov/rfpb/. The most up-to-date changes to the meeting can be found on the RFPB Web site.

SUPPLEMENTARY INFORMATION: Purpose of the Meeting: The purpose of the meeting is to obtain, review and evaluate information related to strategies, policies, and practices designed to improve and enhance the capabilities, efficiency, and effectiveness of the Reserve Components. Additionally, the Board will review its work from the past year and determine what matters to include in the annual report required by law to be transmitted to the President and the Congress by the Secretary of Defense.

Agenda: The Reserve Forces Policy Board will hold a meeting from 8:15 a.m. until 4:00 p.m. The meeting will begin with opening remarks by MajGen Arnold L. Punaro, USMCR (Ret), Chairman, Reserve Forces Policy Board followed by remarks by a number of current and former officials of the Department of Defense. Invited speakers include the Under Secretary of Defense (Comptroller); the Principal Deputy Assistant Secretary of Defense (Reserve Affairs); the Chairman of the National Commission on the Structure of the Air Force; the President of the RFPB Fellows Society; the President of the National Guard Association of the United States; the Executive Director of the Reserve Officers Association; and the former Director, Cost Assessment and Program Evaluation. The speakers have been asked to discuss their views regarding strategies, policies and practices affecting the reserve components. The RFPB subcommittees and task groups will discuss progress on current work to develop possible future recommendations to the Secretary of Defense and the status of Department review and implementations of the Board's recommendations made previously. Topics may include Reserve Survivor Benefits Plan Disparity Issue and Reserve Component Duty Status Reform. The Secretary of Defense Strategic Questions Task Group will update the Board on its task to gather information, conduct research, analyze relevant facts, and develop for Board consideration a report or reports of advice and recommendations for the Secretary of Defense regarding the best ways to use the Reserve Components in the future, the AC/RC Mix, the cost of a strong Reserve, and how to achieve savings. The Cyber Task Group presentation will discuss the Group's future work plan in gathering information, conducting research, analyzing relevant facts and to develop for Board consideration, a report or reports of advice and recommendations for the Secretary of Defense concerning current and future policies, practices and strategies of the Department related to the Cyber Domain. The Board may also deliberate on the findings of the subcommittee and task group presentations and approve recommendations to the Secretary of Defense.

Meeting Accessibility: Pursuant to 5 U.S.C. 552b, as amended, and 41 CFR 102-3.140 through 102-3.165, and subject to the availability of space, the meeting is open to the public. Seating is on a first-come basis. To request a seat at the meeting, interested persons must email or phone Captain Steven Knight, the Designated Federal Officer, not later than noon on Tuesday, September 3, 2013, as listed in FOR FURTHER INFORMATION CONTACT section.

Written Statements: Pursuant to 41 CFR 102-3.105(j) and 102-3.140 and section 10(a)(3) of the FACA, interested persons may submit written statements to the Reserve Forces Policy Board at any time. Written statements should be submitted to the Reserve Forces Policy Board's Designated Federal Officer at the address or facsimile number listed in FOR FURTHER INFORMATION CONTACT. If statements pertain to a specific topic being discussed at a planned meeting, then these statements must be submitted no later than five (5) business days prior to the meeting in question. Written statements received after this date may not be provided to or considered by the Reserve Forces Policy Board until its next meeting. The Designated Federal Officer will review all timely submitted written statements and provide copies to all the committee members before the meeting that is the subject of this notice. Please note that since the Board operates under the provisions of the FACA, all submitted comments and public presentations will be treated as public documents and will be made available for public inspection, including, but not limited to, being posted on the Board's Web site.

Dated: August 14, 2013.
Aaron Siegel,
Alternate OSD Federal Register Liaison Officer, Department of Defense.

[FR Doc. 2013-20188 Filed 8-19-13; 8:45 am]

BILLING CODE 5001-06-P